DEPARTMENT OF ENERGY

Federal Energy Regulatory Commission

Notice of Hydro Licensing Status Workshop 2004

October 7 , 2004.

Hydro Licensing Status Workshop 2004— [Docket No. AD04-014-000]

Avondale Mills, Inc.—[Project Nos. 5044-008,

Central Vermont Public Service Corporation—Project Nos. 2205-006, 11475-000 and 11478-000,

City of Escondido, California—Project No. 176-018,

Confederated Tribes of Warm Springs Reservation and Portland General Electric Company—Project No. 2030-036,

El Dorado Irrigation District—Project No. 184-065,

Enterprise Mill, LLC—Project No. 2935-015,

Erie Boulevard Hydropower, LP—Project Nos. 2474-004 and 2539-003,

Flambeau Hydro, LLC—Project No. 2064-007,

Ford Motor Company—Project No. 362-004,

FPL Energy Maine Hydro, LLC—Project Nos. 2283-005,

Great Lakes Hydro American, LLC—Project No. 2634-007,

Green Mountain Power Corporation—Project No. 2090-003,

Gustavus Electric Company—Project No. 11659-002,

PacifiCorp—Project Nos. 2071-013, 2342-005, and 2659-011,

Pacific Gas & Electric Co.—Project 233-081,

PCA Hydro, Inc.—Project No. 2180-007,

PPL Great Works, LLC—Project No. 2312-014,

PPL Maine, LLC—Project No. 2721-013,

PUD No. 1 of Pend Oreille County—Project No. 2042-013,

Southern California Edison Company—Project Nos. 2086-03]

A one-day, Commissioner-led workshop will be held on Thursday, December 9, 2004, beginning at 10 a.m. (EST), in the Commission Meeting Room at the Federal Energy Regulatory Commission, 888 First Street, NE., Washington, DC. The workshop will focus on the above-listed pending license applications filed at the Commission. The workshop is open to the public and all interested persons are invited to attend and participate.

The goals of the workshop are to: (1) Review and discuss the pending license applications; (2) identify unresolved issues; (3) determine next steps; (4) agree on who will take the next steps; and (5) focus on solutions. The workshop will concentrate on identifying the unresolved issues associated with each project, and determining the best course of action to resolve or remove obstacles to final action on each pending license application.

A transcript of the discussions will be placed in the public record for Docket No. AD04-014-000 and in the record for each of the pending license applications.

Filing Requirements for Paper and Electronic Filings

Comments, papers, or other documents related to this proceeding may be filed in paper format or electronically. Those filing electronically do not need to make a paper filing.

For paper filings, the original and 8 copies of the comments should be submitted to the Office of the Secretary, Federal Energy Regulatory Commission, 888 First Street, NE., Washington, DC 20426. Paper filings should, at the top of the first page, refer to Docket No. AD04-014-000 and reference the specific project name(s) and project number(s) that the comments concern. The deadline to file comments is January 10, 2005.

Comments may be filed electronically via the internet in lieu of paper. The Commission strongly encourages electronic filings. Documents filed electronically via the internet may be prepared in MS Word or Portable Document Format. To file the document, access the Commission's Web site at www.ferc.gov, click on “e-Filing” and then follow the instructions on the screen. First-time users will have to establish a user name and password. The Commission will send an automatic acknowledgment to the sender's e-mail address upon receipt of comments. User assistance for electronic filing is available at 202-502-8258 or by e-mail to efiling@ferc.gov. Comments should not be submitted to the e-mail address.

All comments will be placed in the Commission's public files and will be available for inspection in the Commission's Public Reference Room at 888 First Street, NE., Washington DC 20426, during regular business hours. Additionally, all comments may be viewed on the Commission's Web site at www.ferc.gov using the “eLibrary” link.

For assistance, call toll free 1-866-208-3676, or for TTY 202-502-8659, or by e-mail to FERCOnlineSupport@ferc.gov.

Opportunities for Listening, Participating, and Viewing the Workshop Offsite and Obtaining a Transcript

The workshop will be transcribed. Those interested in transcripts immediately for a fee should contact Ace-Federal Reporters, Inc., at 202-347-3700, or 1-800-336-6646. Transcripts will be available free to the public on the Commission's e-library system about two weeks after the workshop.

For those involved in the specific projects being discussed, we believe the best way to achieve the goals of the workshop is for you and your staff to attend the workshop in person. However, we understand that budgetary and other constraints may limit travel to Washington, DC. Therefore, we have made alternative arrangements for you to listen, view, or participate in the workshop through the internet, video conferencing, or teleconferencing.

The Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.org and click on “FERC.”

Anyone wishing to participate via teleconference should call or e-mail Ken Hogan at 202-502-8434 or kenneth.hogan@ferc.gov by December 1, 2004, to receive the toll free telephone number to join the teleconference.

Anyone interested in participating in the workshop via video teleconference from one of the Commission's regional offices should call or e-mail the following staff, by December 1, 2004, to make arrangements. Seating capacity is limited.

Regional office | Staff contact | Telephone number | E-mail address
Atlanta | Charles Wagner | 770-452-3765 | charles.wagner@ferc.gov.
Chicago | David Simon | 312-596-4448 | david.simon@ferc.gov.
New York | Chuck Goggins | 212-273-5910 | charles.goggins@ferc.gov.
Portland | Pat Regan | 503-552-2741 | patrick.regan@ferc.gov.
San Francisco | John Wiegel | 415-369-3336 | john.wiegel@ferc.gov.

By December 2, 2004, an agenda for the workshop and information about the pending license applications will be posted on the Commission's Web site under Hydro Licensing Status Workshop 2004. Anyone without access to the Commission's Web site, or who has questions should contact Alan Mitchnick at 202-502-6074, or e-mail alan.mitchnick@ferc.gov. This meeting is posted on the Commission's calendar located at http://www.ferc.gov/EventCalendar/EventsList.aspx along with other related information.

Magalie R. Salas,
Secretary.

[FR Doc. E4-2680 Filed 10-15-04; 8:45 am]

BILLING CODE 6717-01-P